DEPARTMENT OF THE INTERIOR

Bureau of Land Management

[LLCA942000 L5700 0000 BX0000 12X L5017AR]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs or Bureau of Reclamation. The lands surveyed are:

Mount Diablo Meridian, California

T. 12 N., R. 12 E., dependent resurvey, subdivision and metes-and-bounds survey accepted February 11, 2014.

T. 31 S., R. 24 E., dependent resurvey and subdivision of sections accepted March 18, 2014.

T. 31 S., R. 23 E., dependent resurvey and subdivision of sections accepted March 20, 2014.

T. 16 N., R. 10 E., dependent resurvey accepted March 27, 2014.

T. 16 N., R. 9 E., dependent resurvey accepted March 27, 2014.

T. 17 N., R. 7 E., dependent resurvey and subdivision of section 24 accepted March 27, 2014.

T. 1 S., Rs. 15 and 16 E., dependent resurvey and subdivision of section 30 accepted March 27, 2014.

T. 16 N., R. 10 E., supplemental plat of the NW 1/4 of section 30 accepted April 2, 2014.

T. 29 N., R. 3 W., dependent resurvey and survey accepted May 19, 2014.

T. 18 N., R. 9 E., dependent resurvey and subdivision of section 32 accepted April 3, 2014.

T. 3 N., R. 14 E., dependent resurvey and subdivision accepted April 17, 2014.

San Bernardino Meridian, California

T. 5 S., R. 13 and 14 W., dependent resurvey and metes-and-bounds survey accepted February 14, 2014.

T. 9 S., R. 13 E., supplemental plats of section 7, section 16, SE 1/4 section 17 and section 36 accepted February 19, 2014.

T. 10 S., R. 14 E., supplemental plats of a portion of section 4, section 5, a portion of section 6, a portion of section 10 and the NE 1/4 section 26 accepted February 20, 2014.

T. 15 S., R. 3 E., dependent resurvey, subdivision and metes-and-bounds survey accepted February 25, 2014.

T. 8 S., R. 12 E., supplemental plats of the SE 1/4 section 6 and the SW 1/4 section 9 accepted March 11, 2014.

T. 13 S., R. 2 E., dependent resurvey and subdivision of section 26 accepted April 3, 2014.

T. 9 S., R. 13 E., supplemental plat of SE 1/4 section 17 accepted April 9, 2014.

T. 10 S., R. 14 E., supplemental plat of a portion of section 10 accepted April 21, 2014.

T. 5 S., R. 12 W., supplemental plat of tract A lot 1 and lot 2 in parcel C-2 accepted May 9, 2014.

Authority: 43 U.S.C., Chapter 3.

Dated: May 20, 2014.
Lance J. Bishop,
Chief Cadastral Surveyor, California.

[FR Doc. 2014-12696 Filed 5-30-14; 8:45 am]

BILLING CODE 4310-40-P